DEPARTMENT OF ENERGY

Federal Energy Regulatory Commission

Combined Notice of Filings #2

Take notice that the Commission received the following electric corporate filings:

Docket Numbers: EC17-116-000.

Applicants: Verde Energy USA Inc., Verde Energy USA New York, LLC, Verde Energy USA Trading, LLC.

Description: Application of Verde Energy USA Inc., et. al. for Authorization Under Section 203 of the Federal Power Act and Requests for Waivers, Confidential Treatment and Expedited Action.

Filed Date: 5/12/17.

Accession Number: 20170512-5167.

Comments Due: 5 p.m. ET 6/2/17.

Take notice that the Commission received the following electric rate filings:

Docket Numbers: ER17-105-003; ER17-104-003.

Applicants: Broadview Energy JN, LLC, Broadview Energy KW, LLC.

Description: Notice of Non-Material Change in Status of Broadview Energy JN, LLC, ET AL.

Filed Date: 5/12/17.

Accession Number: 20170512-5131.

Comments Due: 5 p.m. ET 6/2/17.

Docket Numbers: ER17-1589-000.

Applicants: ISO New England Inc., Vermont Transco, LLC.

Description: § 205(d) Rate Filing: Vermont Transco LLC Request for Approval of Updated Depreciation Rates to be effective 7/1/2017.

Filed Date: 5/12/17.

Accession Number: 20170512-5111.

Comments Due: 5 p.m. ET 6/2/17.

Docket Numbers: ER17-1590-000.

Applicants: PJM Interconnection, L.L.C.

Description: § 205(d) Rate Filing: Revisions to OA Schedule 1 and OATT Att K-Appx RE Operating Reserve Demand Curve to be effective 7/12/2017.

Filed Date: 5/12/17.

Accession Number: 20170512-5125.

Comments Due: 5 p.m. ET 6/2/17.

Docket Numbers: ER17-1591-000.

Applicants: PJM Interconnection, L.L.C.

Description: § 205(d) Rate Filing: Amendment to Service Agreement No. 1442; Queue No. NQ123 to be effective 6/2/2015.

Filed Date: 5/12/17.

Accession Number: 20170512-5134.

Comments Due: 5 p.m. ET 6/2/17.

Docket Numbers: ER17-1592-000.

Applicants: Arizona Public Service Company.

Description: Notice of Cancellation of Rate Schedule No. 45 of Arizona Public Service Company.

Filed Date: 5/12/17.

Accession Number: 20170512-5140.

Comments Due: 5 p.m. ET 6/2/17.

Docket Numbers: ER17-1593-000.

Applicants: Combined Locks Energy Center, LLC.

Description: Tariff Cancellation: Cancellation of Market Based Rate Tariff to be effective 5/13/2017.

Filed Date: 5/12/17.

Accession Number: 20170512-5172.

Comments Due: 5 p.m. ET 6/2/17.

Docket Numbers: ER17-1594-000.

Applicants: Archer Energy, LLC.

Description: Baseline eTariff Filing: Application for Market Based Rate Authority to be effective 7/15/2017.

Filed Date: 5/12/17.

Accession Number: 20170512-5173.

Comments Due: 5 p.m. ET 6/2/17.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: May 12, 2017.
Kimberly D. Bose,
Secretary.

[FR Doc. 2017-10121 Filed 5-18-17; 8:45 am]

BILLING CODE 6717-01-P